DEPARTMENT OF COMMERCE

National Oceanic and Atmospheric Administration

[I.D. 071201B]

Endangered and Threatened Species; Take of Anadromous Fish

AGENCY: National Marine Fisheries Service (NMFS), National Oceanic and Atmospheric Administration (NOAA), Commerce.

ACTION: Receipt of applications for scientific research permits.

SUMMARY: NMFS has received applications for Endangered Species Act (ESA) scientific research permits from the Columbia River Inter-Tribal Fish Commission at Portland, OR (CRITFC); Oregon State University at Corvallis, OR (OSU); the Shoshone-Bannock Tribes at Fort Hall, ID (SBT); Gary Thorgaard of the School of Biological Sciences, Washington State University at Pullman, WA (WSU); the Thompson Creek Mining Company at Challis, ID (TCM); and has received an application from the Oregon Department of Environmental Quality at Portland, OR (ODEQ) for modification 1 to scientific research permit 1205.

DATES: Comments or requests for a public hearing on any of the new applications or the modification request must be received no later than 5 p.m. Pacific daylight time on August 20, 2001.

ADDRESSES: Written comments and requests for copies of the permit applications should be sent to Protected Resources Division (PRD), F/NWO3, 525 NE Oregon Street, Suite 500, Portland, OR 97232-2737 (503/230-5400). Comments may also be sent via fax to 503/230-5435. The documents are also available on the Internet at http://www.nwr.noaa.gov/. Comments will not be accepted if submitted via e-mail or the Internet.

FOR FURTHER INFORMATION CONTACT: Robert Koch, Portland, OR, phone: 503-230-5424, Fax: 503-230-5435, e-mail: robert.koch@noaa.gov.

SUPPLEMENTARY INFORMATION:

Species Covered in This Notice

The following species and evolutionarily significant units (ESU’s) are covered in this notice:

Chinook salmon (O. tshawytscha): threatened, naturally produced and artificially propagated, Snake River (SnR) spring/summer; threatened SnR fall.

Steelhead (O. mykiss): threatened SnR, threatened middle Columbia River (MCR).

Sockeye salmon (Oncorhynchus nerka): endangered Snake River (SnR).

New Applications Received

CRITFC requests a 5-year permit (1339) for annual takes of adult, threatened, SnR steelhead and adult, threatened, SnR spring/summer chinook salmon associated with scientific research to be conducted in the following tributaries of the Imnaha River in OR: Cow, Lightning, Horse, Big Sheep, Camp, Little Sheep, Freezeout, Grouse, Crazyman, and Gumboot Creeks. The purpose of the research is to acquire information on the status (escapement abundance, genetic structure, life history traits) of steelhead in the Imnaha River Basin. The research will benefit the ESA-listed species by providing information that fisheries managers can use to determine if recovery actions are increasing wild and natural Snake River salmonid populations. Establishing baseline information on steelhead population status in the Imnaha River Basin will aid in guiding future management actions. ESA-listed adult salmon and steelhead are proposed to be collected using temporary/portable picket weirs. Non-target species that are collected (chinook salmon) are proposed to be measured and released. ESA-listed adult steelhead that are collected are proposed to be sampled for biological information, sampled for fin tissues and scales, marked with opercular punches, tagged with Tyvek disc tags, and released or examined for opercular punches and Tyvek disc tags, sampled for biological information, and released. ESA-listed adult fish indirect mortalities associated with the research are also requested. ESA-listed adult fish carcasses are also proposed to be collected and sampled for tissues and/or scales and biological information.

OSU requests a 1-year permit (1340) for takes of adult and juvenile, threatened, naturally produced and artificially propagated, SnR spring/summer chinook salmon; adult and juvenile, threatened, SnR steelhead; and adult and juvenile, threatened, MCR steelhead associated with research to be conducted in tributaries of the Imnaha River, the Snake River, Joseph Creek, the Grande Ronde River, and the John Day River in OR. The research is designed to determine how salmonid fishes respond to riparian diversity and how riparian diversity changes over time. The research will build a framework for designing riparian restoration programs in northeast Oregon. The researchers will survey both in-stream and riparian zone characteristics where riparian litter, terrestrial insects, aquatic insects, and fish will be quantified. ESA-listed adult and juvenile salmon and steelhead are proposed to be observed/harassed during snorkel surveys. In addition, ESA-listed adult and juvenile steelhead are proposed to be captured with hook-and-line with barbless flies, sampled for biological information, sampled for stomach contents, and released. Any ESA-listed juvenile chinook salmon captured using hook-and-line will be immediately released. ESA-listed fish indirect mortalities associated with the research are also requested.

SBT requests a 5-year permit (1341) for annual takes of juvenile, endangered, SnR sockeye salmon associated with a study designed to evaluate the annual sockeye salmon smolt emigration from Pettit and Alturas Lakes in ID. The information is needed to estimate overwinter survival, downstream migration survival, and downstream migration timing. The research will also allow SBT researchers to evaluate various release strategies and to calculate smolt-to-adult return rates. The proposed research will benefit the species by providing managers with information on the relative success of the Pettit and Alturas Lakes sockeye salmon reintroduction program. The research will also provide information that resource managers can use to make decisions on future releases of sockeye salmon from the Idaho Department of Fish and Game’s captive broodstock program in areas where sockeye salmon have been extirpated. Sockeye salmon smolts are proposed to be captured using a rotary screw trap on Alturas Lake Creek and a weir on Pettit Lake Creek. After being captured, the ESA-listed sockeye salmon juveniles are proposed to be sampled for biological information and released or tagged with passive integrated transponders and released. In addition, to determine trap efficiencies, a portion of the ESA-listed juvenile sockeye salmon to be captured are proposed to be marked with a small cut on the caudal fin, released upstream of the traps, captured at the traps a second time, inspected for the caudal fin mark, and released. Juvenile, threatened, naturally produced, SnR spring/summer chinook salmon are also proposed to be captured at the Alturas Lake location, sampled for biological information, and released during the research effort directed at sockeye salmon. ESA-listed juvenile fish indirect mortalities associated with the research are also requested. Takes of ESA-listed species associated with SBT’s research activities were previously authorized under scientific research permit 998 which expired on December 31, 2000.

Gary Thorgaard of the School of Biological Sciences, WSU requests a 3-year permit (1342) for a research project involving the use of small quantities of sperm collected from adult, threatened, SnR spring/summer chinook salmon and adult, threatened, SnR steelhead. The objective of the research is to assess the impact of hatchery rearing on the genetic makeup of salmonid fishes, which may in turn influence their behavior, physiology, and ability to survive in nature. The research seeks to determine the extent to which wild and hatchery salmon and steelhead may differ in their behavioral and physiological responses. If differences are detected, it is possible that hatchery rearing methods could be adjusted to reduce those differences over time by altering selection patterns in the hatcheries. Hybrid fish are proposed to be produced in a laboratory setting using ESA-listed fish sperm and eggs acquired from non-listed hatchery fish. The hybrid fish are proposed to be reared to the parr life stage; subjected to standardized tests designed to analyze the behavioral, physiological, and genetic changes that occur during domestication; and euthanized at the completion of the experiment. The behavioral and physiological traits of the hybrid fish will then be compared to those of hatchery fish produced using the same eggs. Dr. Thorgaard proposes to acquire the ESA-listed fish sperm to be used for the experiment from Nez Perce Tribe biologists, who are authorized to collect male gametes from ESA-listed salmon and steelhead for cryopreservation purposes under a separate authorization issued to the Columbia River Inter-Tribal Fish Commission.

TCM requests a 5-year permit (1343) for annual takes of juvenile, threatened, naturally produced, SnR spring/summer chinook salmon and juvenile, threatened, SnR steelhead associated with research designed to monitor the aquatic fish populations in the Thompson Creek and Squaw Creek drainages in the vicinity of Thompson Creek Mine. Thompson Creek Mine is a large, open pit molybdenum mine operation located in the Salmon River subbasin, Custer County, Idaho. The mine currently discharges runoff into Thompson and Squaw Creeks, tributaries to the Salmon River. Annual biological monitoring is proposed to determine the effects of mine operations on the aquatic life in Thompson and Squaw Creeks. The monitoring is required by the Idaho Department of Environmental Quality and the U.S. Environmental Protection Agency under a National Pollutant Discharge Elimination System permit. The biomonitoring project will benefit all aquatic species, including chinook salmon and steelhead, in that annual monitoring will detect any adverse impacts to the aquatic species as a result of mining operations. ESA-listed juvenile salmon and steelhead are proposed to be observed/harassed during snorkel surveys. ESA-listed juvenile fish are also proposed to be captured using electrofishing, sampled for biological information, and released. ESA-listed juvenile fish indirect mortalities associated with the research are also requested.

Modification Request Received

ODEQ requests modification 1 to scientific research permit 1205. Permit 1205 authorizes ODEQ an annual take of juvenile, threatened, Southern Oregon/Northern California Coast coho salmon (Oncorhynchus kisutch) associated with research designed to assess the condition of randomly selected streams in southwestern Oregon. The research involves collecting samples or data on a range of parameters including benthic macroinvertebrates, periphyton, non-native and invasive riparian plant species, chemical water quality, bacteriological water quality, stream habitat condition, fish and amphibian assemblages, and water temperature. ODEQ’s research is coordinated with the U.S. Environmental Protection Agency and is mandated by the Clean Water Act. For modification 1, ODEQ requests annual takes of ESA-listed Snake River salmon and steelhead juveniles associated with an expansion of the research effort to the Snake River Basin. ESA-listed juvenile salmon and steelhead are proposed to be captured using electrofishing, examined, measured, and released. ESA-listed juvenile fish indirect mortalities are also requested. Modification 1 is requested to be valid for the duration of the permit which expires on December 31, 2002.

Dated: July 16, 2001.
Phil Williams,
Acting Chief, Endangered Species Division, Office of Protected Resources, National Marine Fisheries Service.

[FR Doc. 01-18206 Filed 7-19-01; 8:45 am]

BILLING CODE 3510-22-S